ENVIRONMENTAL PROTECTION AGENCY

[ER-FRL-9009-4]

Environmental Impacts Statements; Notice of Availability

RESPONSIBLE AGENCY: Office of Federal Activities, General Information (202) 564-7146 or http://www.epa.gov/compliance/nepa/.

Weekly receipt of Environmental Impact Statements Filed 05/20/2013 Through 05/24/2013 Pursuant to 40 CFR 1506.9.

Notice

Section 309(a) of the Clean Air Act requires that EPA make public its comments on EISs issued by other Federal agencies. EPA's comment letters on EISs are available at: http://www.epa.gov/compliance/nepa/eisdata.html.

EIS No. 20130138, Draft EIS, USACE, CA, Westbrook Project (SPK-2005-00938), Comment Period Ends: 07/15/2013, Contact: Kathy Norton 916-557-5260

EIS No. 20130139, Second Final Supplement, USFWS, 00, Issuance of Annual Regulations Permitting the Hunting of Migratory Birds, Review Period Ends: 07/01/2013, Contact: Robert Trost 503-231-6162

EIS No. 20130140, Draft EIS, USFS, WY, Sherman Cattle and Horse Allotment Grazing Authorization and Management, Comment Period Ends: 07/15/2013, Contact: Chad Hayward 307-276-5817

EIS No. 20130141, Final EIS, USFS, SC, AP Loblolly Pine Removal and Restoration Project, Review Period Ends: 07/01/2013, Contact: Victor Wyant 864-638-9568

EIS No. 20130142, Draft EIS, HUD, NY, Hallets Point Rezoning, Comment Period Ends: 07/15/2013, Contact: Robert Dobruskin 212-720-3423

EIS No. 20130143, Revised Draft EIS, USAF, UT, United States Air Force F-35A Operational Basing, Beddown at one or more Air Combat Command or Air National Guard Bases, Comment Period Ends: 07/15/2013, Contact: Nicholas Germanos 757-764-5007

EIS No. 20130144, Final EIS, NPS, CO, Grand Ditch Breach Restoration, Review Period Ends: 07/01/2013, Contact: Ben Bobowski 970-586-1350

EIS No. 20130145, Draft EIS, USAF, AK, Proposal to Relocate the 18th Aggressor Squadron from Eielson Air Force Base (EAFB), Alaska to Joint Base Elmendorf-Richardson, Alaska and to Right-Size the Remaining Wing Overhead/Base Operating Support at EAFB, Alaska, Comment Period Ends: 07/30/2013, Contact: Allen Richmond 210-395-8555

EIS No. 20130146, Final EIS, USFS, CA, Whisky Ridge Ecological Restoration Project, Review Period Ends: 07/01/2013, Contact: Dean A. Gould 559-297-0706

EIS No. 20130147, Final EIS, TVA, TN, Dam Safety Modifications at Cherokee, Fort Loudoun, Tellico, and Watts Bar Dams, Review Period Ends: 07/01/2013, Contact: Charles P. Nicholson 865-632-3582

EIS No. 20130148, Draft Supplement, USACE, FL, Jacksonville Harbor Navigation, Comment Period Ends: 07/15/2013, Contact: Samantha Borer 904-232-1066

Amended Notices

EIS No. 20130133, Draft EIS, BLM, CO, Dominguez-Escalante National Conservation Area Draft Resource Management Plan, Comment Period Ends: 08/15/2013, Contact: Samantha Staley 970-244-3188, Revision to FR Notice Published 05/24/2013; Extending Comment Period from 8/15/2013 to 8/22/2013

Dated: May 28, 2013
Cliff Rader
Director, NEPA Compliance Division Office of Federal Activities.

[FR Doc. 2013-12965 Filed 5-30-13; 8:45 am]

BILLING CODE 6560-50-P